DEPARTMENT OF AGRICULTURE

Rural Business-Cooperative Service

Notice of Request for Extension of a Currently Approved Information Collection; Correction

AGENCY: Rural Business-Cooperative Service, USDA.

ACTION: Proposed collection; comments requested.

SUMMARY: The Rural Business-Cooperative Service published a document in the Federal Register of July 22, 2009, concerning the collection of information.

DATES: Comments on this notice must be received by November 9, 2009, to be assured of consideration.

FOR FURTHER INFORMATION CONTACT: Requests for additional information regarding this correction should be directed to Cheryl Thompson, 202-692-0043.

SUPPLEMENTARY INFORMATION:

Need for Correction

In the Federal Register of July 22, 2009, in FR Doc. E9-17345, on page 36163, in the first column, the date for receipt for comments was incorrectly identified as July 22, 2009. The comment period should have been 60 days from date of publication in the Federal Register. This correction will allow for a 60-day comment period.

Dated: September 1, 2009.
Judith A. Canalas,
Administrator, Rural Business-Cooperative Service.

[FR Doc. E9-21590 Filed 9-4-09; 8:45 am]

BILLING CODE 3410-XY-P